DEPARTMENT OF AGRICULTURE

Submission for OMB Review; Comment Request

June 6, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: NAHMS Equine 2005 Study (Equine 2005).

OMB Control Number: 0579-NEW.

Summary of Collection: Collection and dissemination of animal health and poultry data and information is mandated by 7 U.S.C. 391, the Animal Industry Act of 1884, which established the precursor of the Animal and Plant Health Inspection Service (APHIS), Veterinary Services, the Bureau of Animal Industry. APHIS operates the National Animal Health Monitoring System (NAHMS), which collects, on a national basis, statistically valid and scientifically sound data on the prevalence and economic importance of livestock and poultry disease risk factors. APHIS is collecting information that is not available from any other source on the health of the nation's equine population. NAHMS will initiate a national study titled Equine 2005, consisting of two components (an equine event and an on-farm), to collect information on the U.S. equid population.

Need and Use of the Information: APHIS will collect information using two forms. APHIS will use the date collected to: (1) Predict or detect national and regional trends in disease emergence and movement, (2) address emerging issues, (3) determine the economic consequences of disease, and (4) develop trade strategies and support trade decisions. Without the data, APHIS would be less prepared to handle an outbreak of disease.

Description of Respondents: Individuals or households; Farms; Business or other for-profit.

Number of Respondents: 4,360.

Frequency of Responses: Reporting: On occasion.

Total Burden Hours: 4,180.

Ruth Brown,
Departmental Information Collection Clearance Officer.

[FR Doc. 05-11506 Filed 6-9-05; 8:45 am]

BILLING CODE 3410-34-P